DEPARTMENT OF STATE

[Public Notice 4354]

Cultural Property Advisory Committee Notice of Meeting

In accordance with the provisions of the Convention on Cultural Property Implementation Act (19 U.S.C. 2601 et seq.) there will be a meeting of the Cultural Property Advisory Committee on Tuesday, July 29, 2003, from approximately 9 a.m. to 5 p.m., and on Wednesday, July 30, 2003, from approximately 9 a.m. to 1 p.m., at the United States Department of State, Annex 44, 301 4th St., SW., Washington, DC. Pursuant to 19 U.S.C. 2603(c)(3), the Committee is requested to review the possible extension of the Emergency Import Restrictions Imposed on Byzantine Ecclesiastical and Ritual Ethnological Material from Cyprus, promulgated on April 12, 1999. This portion of the meeting will be closed pursuant to 5 U.S.C. 552b(c)(9)(B).

The Committee's agenda will also include briefings on internal procedures. This portion of the meeting will be closed pursuant to 5 U.S.C. 552b(c)(2). In addition, the Committee will have an open session to receive comments from interested parties regarding the possible extension of this emergency import restriction. This open portion of the meeting will be held from approximately 9:30 to 10:30 p.m. on July 30.

Seating is limited. Persons wishing to attend this open portion of the meeting must notify the Cultural Property office at (202) 619-6612 by 5 p.m. (EDT) Wednesday, July 23, 2003, to arrange for admission. Persons wishing to present oral comments at the open portion of the meeting, or to submit written comments for the Committee's consideration, must provide them in writing by 5 p.m., (EDT) July 23, 2003. All comments may be faxed to (202) 260-4893. Oral presentations will be limited to ensure time for the Committee to pose questions. Information about the Convention on Cultural Property Implementation Act and the subject emergency import restrictions may be found at http://exchanges.state.gov/culprop.

Dated: July 7, 2003.
Patricia S. Harrison,
Assistant Secretary for Educational and Cultural Affairs, Department of State.

[FR Doc. 03-17781 Filed 7-14-03; 8:45 am]

BILLING CODE 4710-11-P